DEPARTMENT OF TRANSPORTATION

Federal Aviation Administration

14 CFR Part 71

[Docket No. FAA-2010-0347; Airspace Docket No. 07-AWA-2]

RIN 2120-AA66

Modification of Class B Airspace; Chicago, IL

AGENCY: Federal Aviation Administration (FAA), DOT.

ACTION: Final rule.

SUMMARY: This action modifies the Chicago, IL, Class B airspace area by expanding the existing airspace area to ensure containment of Instrument Flight Rules (IFR) aircraft conducting instrument approach procedures within Class B airspace, and segregating IFR aircraft arriving/departing Chicago O'Hare International Airport (ORD) and Visual Flight Rules (VFR) aircraft operating in the vicinity of the Chicago Class B airspace area. The additional Class B airspace will support simultaneous instrument approach procedure operations to ORD's triple parallel runways today, as well as the three additional parallel runways (six total) planned for the near future. This action enhances safety, improves the flow of air traffic, and reduces the potential for midair collision in the Chicago terminal area, further supporting the FAA's national airspace redesign goal of optimizing terminal and en route airspace areas to reduce aircraft delays and improve safety and efficiency of the National Airspace System (NAS).

DATES: Effective Date: 0901 UTC, October 21, 2010. The Director of the Federal Register approves this incorporation by reference action under 1 CFR part 51, subject to the annual revision of FAA Order 7400.9 and publication of conforming amendments.

FOR FURTHER INFORMATION CONTACT: Colby Abbott, Airspace and Rules Group, Office of System Operations Airspace and AIM, Federal Aviation Administration, 800 Independence Avenue, SW., Washington, DC 20591; telephone: (202) 267-8783.

SUPPLEMENTARY INFORMATION:

Background

On May 14, 2010, the FAA published in the Federal Register a notice of proposed rulemaking (NPRM) to modify the Chicago, IL, Class B airspace area (75 FR 27229). The FAA proposed this action to ensure containment of turbo-jet IFR aircraft conducting instrument approaches to ORD within the confines of Class B airspace and better segregate IFR aircraft arriving/departing ORD and non-participating VFR aircraft operating in the vicinity of the Chicago Class B airspace area.

Interested parties were invited to participate in this rulemaking effort by submitting written comments on the proposal. In response to the NPRM, the FAA received 82 written comment submissions; of which, 7 were duplicate documents submitted by 4 commenters. Many of the commenters identified themselves as pilots who operate within, or through, the local area. All comments received were considered before making a determination on the final rule. An analysis of the comments received and the FAA's responses are contained in the “Discussion of Comments” section below.

Subsequent to the NPRM publication, the geographic coordinates in the aeronautical database for the ORD airport reference point (ARP), the Chicago Midway International Airport ARP, and the intersection of U.S. Highway 294 and the railroad tracks identified in Area B changed. The correct coordinates for the above have been incorporated into the Chicago Class B airspace area legal description contained in this final rule.

Class B airspace designations are published in paragraph 3000 of FAA Order 7400.9U, dated August 18, 2010, and effective September 15, 2010, which is incorporated by reference in 14 CFR 71.1. The Class B airspace designations listed in this document will be subsequently published in the Order.

Discussion of Comments

Six commenters expressed general opposition to the proposal stating they thought it was unnecessary.

The FAA does not agree. As stated in the NPRM, the current Chicago Class B airspace area was established in 1993. Since then, ORD has experienced a significant increase in the number of aircraft operations and a substantial change in the fleet mix, with no change to the airspace configuration. The City of Chicago has completed airport infrastructure projects in recent years that enable simultaneous instrument approaches to three parallel runways that run west to east. Ongoing planned runway construction projects for the near future include building three additional parallel runways running west to east; transforming the operational flow of ORD to a West/East flow with six parallel runways when completed.

FAA guidance requires air traffic controllers to vector IFR arrival aircraft to remain within Class B airspace once they've entered it. Today, turbo-jet aircraft flying simultaneous triple instrument approach procedures to ORD exceed the Class B airspace area boundaries; routinely entering, exiting, and re-entering the Class B airspace during their arrival. The procedural requirements associated with establishing arrival aircraft on simultaneous instrument approaches to three parallel runways result in aircraft exceeding the Class B airspace lateral boundaries by up to ten nautical miles (NM) during moderate traffic levels. As the additional runways planned for construction at ORD become operational and expected airport capacity increases, the number of aircraft exiting the Class B airspace during arrivals is also expected to increase; resulting in IFR turbo-jet air carrier arrivals flying in the very airspace that non-participating VFR general aviation and glider aircraft are also operating.

Due to the existing and forecasted traffic volume, fleet mix, and operational complexity for controlling arrivals and departures at ORD and the immediate vicinity, the FAA has determined changing air traffic procedures alone will not retain IFR turbo-jet arrivals to ORD within the existing outdated Chicago Class B airspace configuration. The proposed airspace modification is the minimum needed to reasonably accommodate current and future aircraft operations at ORD and necessary to ensure flight safety and efficiency of operations at and in the vicinity of ORD for all users of the airspace.

Sixty-six commenters, including the Aircraft Owners and Pilot Association and multiple Soaring Clubs in the area, requested that the floor of Area F be raised to 5,000 feet mean sea level (MSL).

The FAA has determined it is not possible to raise the floor of Area F from 4,000 feet MSL to 5,000 feet MSL. Aircraft conducting triple simultaneous approaches at ORD cannot be assigned the same altitude during turn-on to the final approach course; they must be assigned an altitude that differs by at least 1,000 feet from the altitude of the other two aircraft conducting simultaneous approaches.

Specifically, when conducting triple simultaneous instrument approaches during an east flow, aircraft will be turned onto and established on final approach courses at 4,000 feet MSL for runway 9L (the northern most runway), 7,000 feet MSL or above for runway 9R (the center runway), and 5,000 feet MSL and 6,000 feet MSL for runway 10 (the southernmost runway currently). When runway 10C becomes operational, it will be used as the southernmost arrival runway and mark the time when ORD will transition to become primarily a west flow or east flow operation.

Traffic must be established on the respective localizers in a manner which allows for standard IFR (1,000 feet vertical) separation to be maintained until the aircraft is switched to the parallel monitor frequency. In reality, this means that the minimum point that the 4,000 feet MSL traffic (north runway) needs to be established is 3 NM from the point that the adjoining final's aircraft descend below 5,000 feet MSL. The traffic that turns on at 5,000 feet MSL or 6,000 feet MSL (south runway) needs to be established 3 NM from the point that the adjoining final's aircraft descend below 7,000 feet MSL. These minimum “turn on points” are located about 20 NM west of ORD for east flow operations. The base legs for aircraft flying to the north and south runways will need to be an additional few miles west of those points to meet their “turn on” requirements. Additionally, for both north and south runways, air traffic controllers will be sequencing aircraft from two or more arrival streams, necessitating the use of multiple altitudes in the arrival descent areas, until lateral separation is established. Under some projected traffic scenarios, multiple altitude downwind patterns will be utilized, with traffic “layered” by altitude and worked by separate controllers. During periods of heavy arrival demand, it is expected that the length of finals will extend to 25-30 NM routinely, as is the case today during west flow operations.

The described scenario addresses triple simultaneous Instrument Landing System approaches. When runway 10R opens and becomes operational, the situation will become compounded as the Chicago TRACON begins conducting “quad” operations. The procedures for controlling quad approaches are in the early planning stages.

Sixty commenters stated that a floor of 4,000 feet MSL for Area F would adversely affect safety. The safety factors cited included ill effects due to compression, decreased possibility of safe landing during in-flight emergencies, inability to avoid the Class B airspace, and inability for gliders to maintain sufficient altitude during departure and arrival.

The FAA acknowledges that some compression will occur. Non-participating VFR general aviation and glider aircraft will have their choice of flying either above or below the Class B airspace, or circumnavigating it five to ten NM further west to remain clear should they decide not to contact Chicago TRACON (C90) to receive Class B services. However, this is necessary to contain arriving IFR turbo-jet aircraft flying instrument approaches to ORD within Class B airspace once they've entered it, and will enhance flight safety to all by segregating the large turbo-jet aircraft and the non-participating VFR aircraft operating in the vicinity of the Chicago Class B airspace area.

The FAA notes that the proposal will affect glider operations. While the Area F Class B airspace extension proposed to the west of ORD brings Class B airspace closer to the airfields where gliders operate, the original airspace extension to the west was reduced in size as much as possible in response to concerns expressed by the glider community during the ad hoc committee meetings and included in their final report. Subsequently, Area F was designed to ensure it does not encompass or overlay the airfields where the Sky Soaring Glider Club (Hampshire, IL) and the Windy City Soaring Association (Hinkley, IL) operations are located; as well as the Chicago Glider Club (Minooka, IL) which lies well south of any proposed Chicago Class B airspace area modifications.

Based on the dimensions of Area F having been reduced at the recommendation and request of the glider community, the FAA feels the success for a safe landing would be no different than it would be in other areas of the present day Class B airspace where the floor is 4,000 feet MSL or less.

The FAA does not agree that non-participating pilots will have difficulty avoiding the Area F Class B airspace extension. The legal description of the airspace area includes a mixture of prominent visual landmark references, geographic coordinates, and arcs defined off distance measuring equipment (DME) navigation aids. The FAA believes this mix of descriptors should be sufficient and effective in assisting pilots to identify the lateral limits of Area F.

Lastly, the FAA acknowledges the concerns of the glider community during departure and arrival phases of flight should they continue to fly in the Class E airspace under the Area F Class B airspace extension and resist seeking alternative airspace that may allow them to climb to higher altitudes on departure and during sustained flights. Great effort was taken to ensure the Class B airspace extension was minimized to the absolute essential dimensions and to ensure it does not encompass or overlay airfields that gliders routinely operate from to minimize impacts to their flight operations.

The four factors cited above, however, do not negate the need for the project. At the present time, large turbo-jet air carriers, general aviation, and glider aircraft are flying simultaneously in the airspace proposed to become Area F due to the outdated design of the Chicago Class B airspace area. Moving forward with the Class B airspace modification will enhance flight safety for all operators flying within, through, or near the Chicago Class B airspace area.

Twenty-two commenters stated that proposed Area F with a floor of 4,000 feet MSL would have negative effects to general aviation aircraft such as delays, or would have negative effects overall on glider operations. The negative effects included difficulty of training new glider pilots and diminished livelihood for instructors and tow pilots.

The FAA notes that similar concerns of adverse impact were raised by commenters responding to the informal airspace meetings and offers the following, also addressed in the NPRM. The proposed Area F Class B airspace extension extending west of ORD incorporates a portion of Class E airspace that currently lies to the west of the boundary of the existing Area F, which currently has a 4,000 feet MSL floor, of the Chicago Class B airspace area. It is understandable that users of that Class E airspace view the establishment of Class B airspace there as an encroachment; however, in the interest of flight safety, the FAA has determined that the proposed Area F airspace extension to the west of ORD is necessary. The extension will contain IFR arrival aircraft flying triple simultaneous instrument approaches to ORD within Class B airspace throughout their approach, segregate IFR aircraft arriving to and departing from ORD and non-participating VFR aircraft in the vicinity of ORD from one another, and ensure a safer flying environment for all airspace users in the busy terminal airspace around ORD.

The Area F Class B airspace extension was limited to include only the volume of airspace necessary to support triple simultaneous instrument approaches. Although Area F brings Class B airspace closer to the airfields where gliders operate, the original airspace extension to the west was reduced in size as much as possible in response to concerns expressed by the glider community during the ad hoc committee meeting process. Additionally, as noted above, Area F was designed to ensure it does not encompass or overlay the airfields where the Sky Soaring Glider Club and the Windy City Soaring Association operations are located; the Chicago Glider Club lies well south of any proposed Class B airspace modifications.

The FAA maintains it is necessary to separate the large turbo-jet aircraft arriving and departing ORD and the non-participating VFR aircraft to ensure flight safety for all flying within, through, or near the Chicago Class B airspace area.

One commenter suggested VFR corridors be established northwest/southeast and northeast/southwest directly over ORD at 1,500 feet MSL to 2,000 feet MSL. Another commenter offered that the proposal would adversely affect the VFR flyway along the Fox River and a third commenter stated additional VFR flyways should be established to the east, the west, and directly over the airspace, and that they should be northbound or southbound only.

The FAA does not agree. Establishing VFR corridors at 1,500 feet MSL to 2,000 feet MSL directly over ORD through the Class B airspace surface area are not feasible. VFR corridors provide general aviation flight paths for pilots planning flights into, out of, or through complex terminal airspace so as to avoid Class B airspace. ORD fans departures off the airport covering as much as 270 degrees around the compass using a combination of parallel and diagonal runways. Depending upon the runway configuration in use, establishing low altitude corridors as suggested would conflict with the over 1,300 departures daily, on average, and force departures to be restricted below the corridor altitude until clear of the corridor. Additionally, IFR aircraft arriving and departing ORD, as well as departing Chicago Midway, Aurora, DuPage, and Milwaukee Mitchell airports, commonly occupy this airspace area.

The FAA also does not agree that the VFR flyway along the Fox River would be affected by the proposed modification. VFR flyways are not addressed in regulatory airspace proposals or determinations, but in accordance with FAA Order 7210.3, Facility Administration and Procedures, processing requirements. However, the FAA notes that the floor of the existing Class B airspace area over the Fox River is 4,000 feet MSL and remains the same in the proposed modification. The existing suggested altitude for the VFR flyway along the Fox River is charted at or below 3,500 feet MSL. The VFR flyway along the Fox River is unaffected by existing Class B airspace and will remain unaffected by the Chicago Class B airspace area modification.

Currently, there are three VFR flyways, that run north and south, west of ORD and one flyway that runs north and south, east of ORD. The flyways to the west utilize a river, roads, and railroad tracks, whereas the flyway to the east utilizes the Lake Michigan shoreline. The FAA believes the existing three VFR flyways are sufficient to support non-participating aircraft flying in the vicinity of ORD.

Two commenters requested that the floor of the Class B airspace over Lake Michigan be raised from 3,000 feet MSL (Area C) and 3,600 feet MSL (Area D) to 4,000 feet MSL or 4,500 feet MSL, citing safety as the reason. One of the commenters stated that raising the floor would increase options for pilots.

The FAA has determined it is not possible to raise the floor altitude for Areas C and D, as requested. No modifications were proposed for these areas as the existing airspace structure was deemed sufficient to continue supporting and protecting IFR aircraft flying triple simultaneous instrument approaches during west flow operations and non-participating VFR aircraft flying along the Lake Michigan shoreline. Although the commenters cited safety reasons as the basis for their suggestion, there are no known safety issues for that airspace today. The FAA recognizes that raising the Area C and D Class B airspace floors would increase options (additional transit altitudes and airspace over Lake Michigan) for non-participating VFR pilots operating east of ORD; however, the Class B airspace in Areas C and D protects the instrument approaches flown to runways 22L and 27R, specifically.

Two commenters stated that the airspace contained in Area F below 5,000 feet MSL is unusable for instrument approaches. One of those commenters also stated that the FAA has indicated that the altitudes below 6,000 feet MSL are unusable in Area F on the west side of the Class B airspace due to traffic from satellite airports.

The FAA does not agree. These statements are incorrect. In fact, IFR aircraft flying instrument approach procedures to ORD today operate below 6,000 feet MSL in the airspace proposed to be Area F. As mentioned previously in response to the public's comments to raise the floor of Area F to 5,000 feet MSL, when conducting triple simultaneous instrument approaches during an east flow, aircraft will be turned onto and established on final approach courses at 4,000 feet MSL for runway 9L (the northern most runway), 7,000 feet MSL or above for runway 9R (the center runway), and 5,000 feet MSL and 6,000 feet MSL for runway 10 (the southernmost runway currently). When runway 10C becomes operational, it will be used as the southernmost arrival runway and mark the time when ORD will transition to become primarily a west flow or east flow operation.

Traffic must be established on the respective localizers in a manner that allows for standard IFR (1,000 feet vertical) separation to be maintained until the aircraft is switched to the parallel monitor frequency. This means that the minimum point that the 4,000 feet MSL traffic (north runway) needs to be established is 3 NM from the point that the adjoining final's aircraft descend below 5,000 feet MSL. The traffic that turns on at 5,000 feet MSL or 6,000 feet MSL (south runway) needs to be established 3 NM from the point that the adjoining final's aircraft descend below 7,000 feet MSL. These minimum “turn on points” are located about 20 NM west of ORD for east flow operations. Additionally, for both north and south runways, air traffic controllers will be sequencing aircraft from two or more arrival streams, necessitating the use of multiple altitudes in the arrival descent areas, until lateral separation is established. Under some projected traffic scenarios, multiple altitude downwind patterns will be utilized, with traffic “layered” by altitude, including the airspace between 4,000 feet MSL and 6,000 feet MSL.

Thirty-one commenters thought the railroad tracks near Hampshire, IL, should be used as a visual landmark to define the northern boundary of Area F between the 25 NM and 30 NM arcs. Thirty of those commenters thought that doing so would increase safety with regard to gliders avoiding the Class B airspace area.

The FAA does not agree. As stated in the NPRM, the FAA finds this suggestion impractical. The resultant dimension of the Area F extension would be insufficient laterally between the runway 9L centerline extended and the northern boundary of the area to safely ensure separation between aircraft flying in the runways 9L, 9R, and 10 downwind traffic patterns and aircraft flying along the Area F boundary and final approach courses. Additionally, issues associated with establishing Area F with an insufficient amount of airspace dimensionally will only be compounded when the three additional parallel runways that are planned become operational.

The FAA also notes that a second set of railroad tracks parallel to the railroad tracks near the town of Hampshire, IL, run approximately three NM to the south. Although commenters believed that using the visually identifiable railroad tracks near Hampshire, IL, would increase safety with regard to gliders avoiding the Chicago Class B airspace area, the opportunity for a pilot to misidentify the correct set of railroad tracks defining the boundary challenges that perspective. A pilot unfamiliar with the local area, encountering weather, or confused in flight for any number of reasons could misidentify the railroad tracks near Hampshire, IL, with those railroad tracks running parallel approximately three NM south near Burlington, IL, and unintentionally intrude into the Chicago Class B airspace area.

Two commenters stated that Area F was not necessary because departure aircraft from ORD did not conflict with instrument approach traffic in that area.

The FAA agrees that aircraft departing ORD do not conflict with aircraft flying instrument approaches in that area. However, the FAA does not agree that Area F is not necessary. Area F is intended to contain IFR turbo-jet aircraft flying instrument approach procedures to runways 9L, 9R, and 10 within Class B airspace. It also will segregate IFR turbo-jet aircraft from non-participating GA and glider aircraft from operating within the same volume of airspace. This will ensure a safe flying environment for all aircraft flying in or near Area F.

One commenter stated that aircraft are more fuel efficient at higher altitudes and, consequently, the proposal would increase fuel consumption for air transport aircraft. Another stated that the proposal would increase fuel consumption for general aviation aircraft.

The FAA does not agree that the Class B airspace area modification will increase fuel consumption for air transport aircraft. The FAA is taking action to modify the existing Class B airspace to contain IFR arrival aircraft flying instrument approach procedures within Class B airspace based on operational procedures today. This action aims to overcome IFR arrival aircraft entering, exiting, and reentering the Chicago Class B airspace area during arrival. This modification represents the minimum airspace needed to reasonably accommodate current operations and flight tracks at ORD. Since air traffic control will continue using existing approach procedures, altitudes, and flight tracks for the same fleet mix it is serving today, fuel consumption for air transport aircraft being controlled today is expected to remain the same in the future. Finally, as the existing flight tracks, altitude use, and approach procedures will not change as a result of modification to the Class B, this modification is not expected to have any fuel consumption impact on air transport aircraft.

The FAA recognizes that the Class B airspace modification could increase fuel burn for non-participating VFR aircraft. Areas E and F are the new Class B airspace areas that could affect non-participating VFR aircraft. In order to remain clear of the Chicago Class B airspace area, non-participating VFR pilots who decide not to contact the Chicago TRACON for Class B services will either have to fly lower or further east or west of ORD. However, this is necessary to separate them and the large turbo-jet aircraft being contained within the Class B airspace area. While some aircraft would need to fly additional distances or at different altitudes, the FAA believes any increase use of fuel would be minimal and be justified by the increase in overall safety.

One commenter stated that the floor of Area D over Joliet was too low, the airspace proposal would adversely affect Chicago Midway Airport (MDW) traffic, and that aircraft on approach to MDW should be at a higher altitude.

The FAA does not agree. The Joliet Regional Airport lies outside the Chicago Mode C veil (30 NM from ORD) in an area unaffected by the Chicago Class B airspace modification. Area D in the existing Chicago Class B airspace area is unchanged in the modification of the Chicago Class B airspace and continues to be over 5 NM away from Joliet Regional Airport. Since there are no proposed changes to Area D, the FAA does not believe there will be any adverse affects to IFR arrival and departure operations to and from MDW. Additionally, the FAA considers the approach procedures to MDW to be safe, appropriate, and supportive of operations there; therefore, the approach procedures will not change as a result of this action.

Two commenters stated that the proposal would have noise impacts because arrival aircraft would be flying at lower altitudes. Additionally, one of those commenters asked if an environmental impact study or noise study had been done and if the FAA had notified communities that aircraft would be flying over them at lower altitudes.

The FAA does not agree. In accordance with FAA Order 1050.1, Environmental Impacts: Policies and Procedures, paragraph 311a, rulemaking actions that modify Class B airspace are categorically excluded from the requirement to prepare an environmental assessment or environmental impact statement. The FAA determined that there were no extraordinary circumstances that would have necessitated further environmental review. The location of present day flight tracks and altitude use will not change as a result of modification to the Class B airspace area. Jet aircraft will continue to fly the same flight tracks and patterns in the same locations that they fly today. There will be no adverse effects on any of the environmental impact categories required to be analyzed in accordance with FAA Order 1050.1; neither will there be any cumulative impacts. Moreover, the FAA prepared an environmental impact statement in July of 2005, and a record of decision in September of 2005, for construction and operation of the new runways at ORD. As such, there is no requirement for a noise study or public notification.

One commenter thought that undue priority was given to the safety needs of IFR aircraft destined for ORD and MDW; second priority was given to separation between IFR and VFR traffic; and last priority was given to uncontrolled aircraft. This commenter added that positive separation could not realistically occur for uncontrolled aircraft and thought policymakers should not favor one group over another.

The FAA does not agree that priority is given to the safety needs of IFR over VFR aircraft. Title 49 of U.S. Code, Section 40103, Sovereignty and use of airspace, charges the FAA to develop plans and policy for the use of the navigable airspace and assign by regulation or order the use of the airspace necessary to ensure the safety of all aircraft and the efficient use of airspace. This action, once established, will ensure containment of turbo-jet IFR aircraft conducting instrument approaches to ORD within the confines of Class B airspace and better segregate IFR aircraft arriving/departing ORD and non-participating VFR aircraft operating in the vicinity of the Chicago Class B airspace area. The containment of the IFR turbo-jet arrivals into ORD within Class B airspace enables the segregation of those aircraft from non-participating VFR aircraft and enhances safety system for all aircraft (IFR and VFR) equally.

The FAA agrees that positive separation cannot be provided for aircraft not in communication with air traffic control. FAA Order 7110.65, Air Traffic Control, prescribes the separation standards between IFR aircraft and between VFR/IFR aircraft that air traffic controllers must apply to IFR aircraft they are controlling. This action is aimed at ensuring the safety of all aircraft, IFR and VFR equally, that will be operating in and around the Chicago Class B airspace area.

The Rule

The FAA is amending Title 14 of the Code of Federal Regulations (14 CFR) part 71 to modify the Chicago Class B airspace area. This action (depicted on the attached chart) modifies several areas within the existing Chicago Class B airspace area and establishes two Class B airspace extensions; one to the east and a second to the west to provide necessary airspace for containment of turbo-jet IFR aircraft conducting approach operations within the confines of Class B airspace once they have entered it and to better segregate the IFR aircraft arriving/departing ORD and the non-participating VFR aircraft operating in the vicinity of the Chicago Class B airspace area. The modifications to the Chicago Class B airspace area are discussed below.

Area A. The northern boundary of Area A is modified by incorporating the airspace east of U.S. Highway 12 between the 6 NM and 5 NM arcs of the Chicago O'Hare VOR/DME antenna, from 2,500 feet MSL to and including 10,000 feet MSL, as part of Area G. The airspace east of U.S. Highway 12 between the 6 NM and 5 NM arcs of the Chicago O'Hare VOR/DME antenna, below 2,500 feet MSL, are returned to the NAS. This modification of Area A raises the floor of the Class B airspace in the affected segment from the surface to 2,500 feet MSL to provide additional airspace to accommodate aircraft on the downwind traffic pattern and circling approaches to Runway 34 at Chicago Executive Airport, without entering Chicago Class B airspace.

Area B. The northeast boundary of Area B is redefined using visually identifiable railroad tracks that run from U.S. Highway 294 to Willow Road (slightly east of the existing Area B, Area C, and current Area E shared boundary). Additionally, Area B is expanded to incorporate a portion of existing Class B airspace contained in the current Area E (specifically, the airspace contained east of the railroad tracks and south of Willow Road within the current Area E) and lowers the floor of that affected airspace to 1,900 feet MSL. This modification of Area B raises the floor of the Class B airspace west of the railroad tracks westward to the existing shared boundary noted above to 3,000 feet MSL, but lowers the floor of the Class B airspace in the affected segment of the current Area E to 1,900 feet MSL. This modification incorporates only that airspace deemed necessary from the current Area E to ensure IFR arrival aircraft flying instrument approaches to ORD Runway 22R are contained within the confines of Class B airspace throughout the approach, and ensures segregation of IFR arrival aircraft from VFR aircraft flying near the boundary of Class B airspace. Additionally, this modification better defines the northeast boundary of Area B using visual references.

Area C. Area C is expanded by incorporating portions of existing Class B airspace (Areas B and E), from 3,000 feet MSL to and including 10,000 feet MSL, commensurately. As described in the Areas B and H modification paragraphs (above and below), the new shared boundary follows railroad tracks that run northeast from U.S. Highway 294 to the 10 NM arc of the Chicago O'Hare VOR/DME antenna. Other than re-defining the shared boundary of the new Areas B, C, and H using a visual reference for pilots flying in the vicinity of the Chicago Class B airspace, there is no effect to IFR or VFR aircraft operations from this modification.

Area D. Area D is unchanged.

Area E. Area E is a newly established airspace extension to the east of the existing Chicago Class B airspace area over Lake Michigan. This establishment extends Class B airspace from the existing Area D boundary defined by the 25 NM arc of the Chicago O'Hare VOR/DME antenna to the 30 NM arc of the Chicago O'Hare VOR/DME antenna. The northern boundary is defined by latitude/longitude points that lay along Federal airways V-100/V-526, and the southern boundary is defined by latitude/longitude points that lay along Federal airways V-6/V-10. This new Area E extends upward from 4,000 feet MSL to and including a ceiling of 10,000 feet MSL to ensure IFR arrival aircraft flying simultaneous instrument approaches to the existing runways 27R, 27L, and 28, as well as the three additional parallel runways planned for the near future, are contained within the confines of Class B airspace throughout their approach; ensure segregation of IFR aircraft arriving ORD and non-participating VFR aircraft operating in the vicinity of the Chicago Class B airspace area; and provide navigable airspace below and above for VFR aircraft operations.

Area F. Area F is expanded to the west of ORD to establish an airspace extension to the west of the existing Chicago Class B airspace area, similar to Area E to the east. Specifically, this modification extends the western boundary of the current Area F to a uniform 25 NM arc of the Chicago O'Hare VOR/DME antenna and then further extends a portion of the western boundary to include the airspace between the 25 NM and 30 NM arcs of the Chicago O'Hare VOR/DME antenna. The northern boundary of the extension to the 30 NM arc is defined by the intersection of Interstate 90 and the 25 NM arc of the Chicago O'Hare VOR/DME antenna, then due west to lat. 42°07′21″ N., long. 88°33′05″ W., on the 30 NM arc of the Chicago O'Hare VOR/DME antenna; and the southern boundary of the extension to the 30 NM arc is defined by Illinois State Route 10 between the 25 NM and 30 NM arcs of the Chicago O'Hare VOR/DME antenna. This new Area F extends upward from 4,000 feet MSL to and including 10,000 feet MSL to ensure IFR arrival aircraft flying simultaneous instrument approaches to the existing runways 9L, 9R, and 10, as well as the three additional parallel runways planned for the near future, are contained within the confines of Class B airspace throughout their approach; to ensure segregation of IFR aircraft arriving ORD and non-participating VFR aircraft operating in the vicinity of the Chicago Class B airspace area; and to provide navigable airspace below and above for VFR aircraft operations.

Area G. The southern boundary of Area G is modified by incorporating the airspace contained in Area A that lies east of U.S. Highway 12 between the 6 NM and 5 NM arcs of the Chicago O'Hare VOR/DME antenna, extending upward from 2,500 feet MSL to and including 10,000 feet MSL. This modification of Area G raises the floor of the Class B airspace in the affected segment from the surface to 2,500 feet MSL to provide additional airspace to accommodate aircraft on the downwind traffic pattern and circling approaches to Runway 34 at Chicago Executive Airport, without entering Chicago Class B airspace.

Area H. Area H is established from the existing northern portion of the current Area E. This new area is bordered by the 10 NM arc of the Chicago O'Hare VOR/DME antenna on the east, Willow Road on the south, and the railroad tracks (located slightly east of the existing Area B, Area C, and Area E shared boundary) that run from U.S. Highway 294 to the 10 NM arc of the Chicago O'Hare VOR/DME antenna on the west. This new area extends upward from 2,500 feet MSL to and including 10,000 feet MSL.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

Paperwork Reduction Act

The Paperwork Reduction Act of 1995 (44 U.S.C. 3507(d)) requires that the FAA consider the impact of paperwork and other information collection burdens imposed on the public. We have determined that there is no new information collection requirement associated with this final rule.

Regulatory Evaluation Summary

Changes to Federal regulations must undergo several economic analyses. First, Executive Order 12866 directs that each Federal agency shall propose or adopt a regulation only upon a reasoned determination that the benefits of the intended regulation justify its costs. Second, the Regulatory Flexibility Act of 1980 (Pub. L. 96-354) requires agencies to analyze the economic impact of regulatory changes on small entities. Third, the Trade Agreements Act (Pub. L. 96-39) prohibits agencies from setting standards that create unnecessary obstacles to the foreign commerce of the United States. In developing U.S. standards, the Trade Act requires agencies to consider international standards and, where appropriate, that they be the basis of U.S. standards. Fourth, the Unfunded Mandates Reform Act of 1995 (Pub. L. 104-4) requires agencies to prepare a written assessment of the costs, benefits, and other effects of proposed or final rules that include a Federal mandate likely to result in the expenditure by State, local, or tribal governments, in the aggregate, or by the private sector, of $100 million or more annually (adjusted for inflation with base year of 1995). This portion of the preamble summarizes the FAA's analysis of the economic impacts of this final rule.

Department of Transportation Order DOT 2100.5 prescribes policies and procedures for simplification, analysis, and review of regulations. If the expected cost impact is so minimal that a proposed or final rule does not warrant a full evaluation, this order permits that a statement to that effect and the basis for it be included in the preamble if a full regulatory evaluation of the cost and benefits is not prepared. Such a determination has been made for this final rule. The reasoning for this determination follows:

This final rule enhances safety by containing all instrument approach procedures and associated traffic patterns within the confines of Class B airspace. The requirements support increased operations and capacity to the current and planned parallel runways while better segregating aircraft that will be operating in the affected airspace.

As stated in the NPRM, we are aware that this final rule might require small adjustments to existing VFR flyway planning charts and perhaps some increased general aviation fuel consumption. After consultation with a diverse cross-section of stakeholders that participated in the ad hoc committee, and as we received no adverse comments regarding the economic analysis, we have determined that this final rule will result in minimal cost.

This final rule will enhance safety, reduce the potential for a midair collision in the Chicago terminal area, and will improve the flow of air traffic. As such, we estimate a minimal impact with substantial positive net benefits. The FAA has, therefore, determined that this final rule is not a “significant regulatory action” as defined in section 3(f) of Executive Order 12866, and is not “significant” as defined in DOT's Regulatory Policies and Procedures.

Final Regulatory Flexibility Determination

The Regulatory Flexibility Act of 1980 (Pub. L. 96-354) (RFA) establishes “as a principle of regulatory issuance that agencies shall endeavor, consistent with the objectives of the rule and of applicable statutes, to fit regulatory and informational requirements to the scale of the businesses, organizations, and governmental jurisdictions subject to regulation. To achieve this principle, agencies are required to solicit and consider flexible regulatory proposals and to explain the rationale for their actions to assure that such proposals are given serious consideration.” The RFA covers a wide-range of small entities, including small businesses, not-for-profit organizations, and small governmental jurisdictions.

Agencies must perform a review to determine whether a rule will have a significant economic impact on a substantial number of small entities. If the agency determines that it will, the agency must prepare a regulatory flexibility analysis as described in the RFA. However, if an agency determines that a rule is not expected to have a significant economic impact on a substantial number of small entities, section 605(b) of the RFA provides that the head of the agency may so certify and a regulatory flexibility analysis is not required. The certification must include a statement providing the factual basis for this determination, and the reasoning should be clear.

Our initial determination was that the rule would not have a significant economic impact on a substantial number of small entities. We received no public comments regarding our initial determination. As such, this final rule will not have a significant economic impact on a substantial number of small entities because the economic impact is expected to be minimal.

Therefore, the FAA Administrator certifies that this final rule will not have a significant economic impact on a substantial number of small entities.

International Trade Impact Assessment

The Trade Agreements Act of 1979 (Pub. L. 96-39), as amended by the Uruguay Round Agreements Act (Pub. L. 103-465), prohibits Federal agencies from establishing standards or engaging in related activities that create unnecessary obstacles to the foreign commerce of the United States. Pursuant to these Acts, the establishment of standards is not considered an unnecessary obstacle to the foreign commerce of the United States, so long as the standard has a legitimate domestic objective, such the protection of safety, and does not operate in a manner that excludes imports that meet this objective. The statute also requires consideration of international standards and, where appropriate, that they be the basis for U.S. standards. The FAA has assessed the effect of this final rule and determined that it will enhance safety and is not considered an unnecessary obstacle to trade.

Unfunded Mandates Assessment

Title II of the Unfunded Mandates Reform Act of 1995 (Pub. L. 104-4) requires each Federal agency to prepare a written statement assessing the effects of any Federal mandate in a proposed or final agency rule that may result in an expenditure of $100 million or more (in 1995 dollars) in any one year by State, local, and tribal governments, in the aggregate, or by the private sector; such a mandate is deemed to be a “significant regulatory action.” The FAA currently uses an inflation-adjusted value of $143.1 million in lieu of $100 million. This final rule does not contain such a mandate; therefore, the requirements of Title II of the Act do not apply.

List of Subjects in 14 CFR Part 71

Airspace, Incorporation by reference, Navigation (air).

The Rule

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the Federal Aviation Administration Order 7400.9U, Airspace Designations and Reporting Points, dated August 18, 2010, and effective September 15, 2010, is amended as follows:

Paragraph 3000 Subpart B—Class B Airspace.

* * * * *

AGL IL B Chicago, IL

Chicago O'Hare International Airport (Primary Airport)

(Lat. 41°58′54″ N., long. 87°54′24″ W.)

Chicago Midway Airport

(Lat. 41°47′10″ N., long. 87°45′09″ W.)

Chicago O'Hare VOR/DME

(Lat. 41°59′16″ N., long. 87°54′17″ W.)

Boundaries.

Area A. That airspace extending upward from the surface to and including 10,000 feet MSL within an area bounded by a line beginning at lat. 42°04′10″ N., long. 87°55′31″ W.; thence clockwise along the 5 NM arc of the Chicago O'Hare VOR/DME to lat. 41°59′15″ N., long. 87°47′35″ W.; thence east to lat. 41°59′15″ N., long. 87°46′15″ W.; thence clockwise along the 6 NM arc of the Chicago O'Hare VOR/DME to Interstate Highway 290 (lat. 41°57′12″ N., long. 88°01′56″ W.); thence north along Interstate Highway 290 to the 6 NM arc of the Chicago O'Hare VOR/DME (lat. 42°01′20″ N., long. 88°01′51″ W.); thence clockwise along the 6 NM arc of the Chicago O'Hare VOR/DME to U.S. Highway 12 (lat. 42°05′03″ N., long. 87°56′26″ W.); thence southeast along U.S. Highway 12 to the point of beginning.

Area B. That airspace extending upward from 1,900 feet MSL to and including 10,000 feet MSL within an area bounded by a line beginning at the intersection of U.S. Highway 294 and railroad tracks at lat. 42°03′58″ N., long. 87°51′58″ W.; thence northeast along the railroad tracks to Willow Road (lat. 42°06′20″ N., long. 87°49′38″ W.); thence east along Willow Road to the 10 NM arc of the Chicago O'Hare VOR/DME (lat. 42°06′04″ N., long. 87°44′28″ W.); thence clockwise along the 10 NM arc of the Chicago O'Hare VOR/DME to the 5 NM radius of Chicago Midway Airport (lat. 41°49′34″ N., long. 87°51′00″ W.); thence counterclockwise along the 5 NM radius of the Chicago Midway Airport to the 10.5 NM arc of the Chicago O'Hare VOR/DME (lat. 41°48′59″ N., long. 87°51′22″ W.); thence clockwise along the 10.5 NM arc of the Chicago O'Hare VOR/DME to the 10 NM radius of the Chicago Midway Airport (lat. 41°49′11″ N., long. 87°58′14″ W.); thence clockwise along the 10 NM radius of Chicago Midway Airport to the 10 NM arc of the Chicago O'Hare VOR/DME (lat. 41°49′40″ N., long. 87°58′05″ W.); thence clockwise along the 10 NM arc of the Chicago O'Hare VOR/DME to U.S. Highway 12 (lat. 42°08′02″ N., long. 88°00′44″ W.); thence southeast along U.S. Highway 12 to the 5 NM arc of the Chicago O'Hare VOR/DME (lat. 42°04′10″ N., long. 87°55′31″ W.); thence clockwise along the 5 NM arc of the Chicago O'Hare VOR/DME to the point of beginning, excluding that airspace designated as Area A.

Area C. That airspace extending upward from 3,000 feet MSL to and including 10,000 feet MSL within an area bounded by the 15 NM arc of the Chicago O'Hare VOR/DME, excluding that airspace designated as Area A, Area B, Area G, and Area H.

Area D. That airspace extending upward from 3,600 feet MSL to and including 10,000 feet MSL within an area bounded by a line beginning at lat. 42°07′52″ N., long. 88°10′47″ W.; thence northwest to the 25 NM arc of the Chicago O'Hare VOR/DME (lat. 42°15′40″ N., long. 88°19′39″ W.); thence clockwise along the 25 NM arc of the Chicago O'Hare VOR/DME to lat. 41°42′03″ N., long. 88°18′34″ W.; thence northeast to the 15 NM arc of the Chicago O'Hare VOR/DME (lat. 41°49′53″ N., long. 88°09′59″ W.); thence clockwise along the 15 NM arc of the Chicago O'Hare VOR/DME to the point of beginning, excluding that airspace designated as Area A, Area B, Area C, Area G, and Area H.

Area E. That airspace extending upward from 4,000 feet MSL to and including 10,000 feet MSL within an area bounded by a line beginning at lat. 42°11′11″ N., long. 87°24′46″ W.; thence east to the 30 NM arc of the Chicago O'Hare VOR/DME (lat. 42°10′39″ N., long. 87°17′01″ W.); thence clockwise along the 30 NM arc of the Chicago O'Hare VOR/DME to lat. 41°46′38″ N., long. 87°17′51″ W.; thence west to the 25 NM arc of the Chicago O'Hare VOR/DME (lat. 41°46′40″ N., long. 87°25′22″ W.); thence counterclockwise along the 25 NM arc of the Chicago O'Hare VOR/DME to the point of beginning.

Area F. That airspace extending upward from 4,000 feet MSL to and including 10,000 feet MSL within an area bounded by a line beginning at lat. 42°07′52″ N., long. 88°10′47″ W.; thence northwest to the 25 NM arc of the Chicago O'Hare VOR/DME (lat. 42°15′40″ N., long. 88°19′39″ W.); thence counterclockwise along the 25 NM arc of the Chicago O'Hare VOR/DME to Interstate 90 (lat. 42°07′22″ N., long. 88°26′01″ W.); thence west to the 30 NM arc of the Chicago O'Hare VOR/DME (lat. 42°07′21″ N., long. 88°33′05″ W.); thence counterclockwise along the 30 NM arc of the Chicago O'Hare VOR/DME to Illinois State Route 10 (lat. 41°49′49″ N., long. 88°32′27″ W.); thence east along Illinois State Route 10 to the 25 NM arc of the Chicago O'Hare VOR/DME (lat. 41°50′40″ N., long. 88°25′44″ W.); thence counterclockwise along the 25 NM arc of the Chicago O'Hare VOR/DME to lat. 41°42′03″ N., long. 88°18′34″ W.; thence northeast to the 15 NM arc of the Chicago O'Hare VOR/DME (lat. 41°49′53″ N., long. 88°09′59″ W.); thence clockwise along the 15 NM arc of the Chicago O'Hare VOR/DME to the point of beginning.

Area G. That airspace extending upward from 2,500 feet MSL to and including 10,000 feet MSL within an area bounded by a line beginning at lat. 42°04′14″ N., long. 87°54′56″ W.; thence northwest to the 10 NM arc of the Chicago O'Hare VOR/DME (lat. 42°09′00″ N., long. 87°57′22″ W.); thence counterclockwise along the 10 NM arc of the Chicago O'Hare VOR/DME to U.S. Highway 12 (lat. 42°08′02″ N., long. 88°00′44″ W.); thence southeast along U.S. Highway 12 to the 5 NM arc of the Chicago O'Hare VOR/DME (lat. 42°04′10″ N., long. 87°55′31″ W.); thence clockwise along the 5 NM arc of the Chicago O'Hare VOR/DME to the point of beginning.

Area H. That airspace extending upward from 2,500 feet MSL to and including 10,000 feet MSL within an area bounded by a line beginning at the intersection of Willow Road and railroad tracks at lat. 42°06′20″ N., long. 87°49′38″ W.; thence northeast along the railroad tracks to the 10 NM arc of the Chicago O'Hare VOR/DME (lat. 42°08′06″ N., long. 87°48′02″ W.); thence clockwise along the 10 NM arc of the Chicago O'Hare VOR/DME to Willow Road (lat. 42°06′04″ N., long. 87°44′28″ W.); thence west along Willow Road to the point of beginning.

Issued in Washington, DC, on September 15, 2010.
Edith V. Parish,
Manager, Airspace and Rules Group.

[FR Doc. 2010-23470 Filed 9-20-10; 8:45 am]

BILLING CODE 4910-13-P